FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012032-008.

Title: CMA CGM/MSC/Maersk Line North and Central China-U.S. Pacific Coast Two-Loop Space Charter, Sailing and Cooperative Working Agreement.

Parties: A.P. Moller-Maersk A/S, CMA CGM S.A., and Mediterranean Shipping Company S.A.

Filing Party: Wayne R. Rohde, Esq.; Cozen O'Connor; 1627 I Street, NW., Suite 1100, Washington, DC 20006.

Synopsis: The Amendment provides for a further slot exchange between Maersk Line and MSC with corresponding changes in the Agreement and delays the introduction of a service loop.

Agreement No.: 012142.

Title: Vessel Sharing Agreement for Transpacific Service between Hainan P O Shipping Co., Ltd. and T.S. Lines.

Parties: Hainan P O Shipping Co., Ltd. and T.S. Lines Ltd.

Filing Party: Neal A. Mayer, Esq.; Hoppel, Mayer, & Coleman; 1050 Connecticut Avenue, NW., 10th Floor, Washington, DC 20036.

Synopsis: The agreement authorizes the parties to share vessel space in the trade between U.S. West Coast ports and ports in China and Korea.

By Order of the Federal Maritime Commission.
Dated: October 21, 2011.
Karen V. Gregory,
Secretary.

[FR Doc. 2011-27706 Filed 10-25-11; 8:45 am]

BILLING CODE 6730-01-P